DEPARTMENT OF COMMERCE

Foreign-Trade Zones Board

[S-28-2020]

Approval of Subzone Expansion, Winnebago Industries, Inc., Forest City and Charles City, Iowa

On February 11, 2020, the Executive Secretary of the Foreign-Trade Zones (FTZ) Board docketed an application submitted by the Iowa Foreign Trade Zone Corporation, grantee of FTZ 107, requesting an expansion of Subzone 107A subject to the existing activation limit of FTZ 107 on behalf of Winnebago Industries, Inc., in Forest City and Charles City, Iowa.

The application was processed in accordance with the FTZ Act and Regulations, including notice in the Federal Register inviting public comment (85 FR 9734-9735, February 20, 2020). The FTZ staff examiner reviewed the application and determined that it meets the criteria for approval. Pursuant to the authority delegated to the FTZ Board Executive Secretary (15 CFR Sec. 400.36(f)), the application to expand Subzone 107A was approved on April 13, 2020, subject to the FTZ Act and the Board's regulations, including Section 400.13, and further subject to FTZ 107's 2,000-acre activation limit.

Dated: April 13, 2020.
Andrew McGilvray,
Executive Secretary.

[FR Doc. 2020-08139 Filed 4-16-20; 8:45 am]

BILLING CODE 3510-DS-P